DEPARTMENT OF JUSTICE

Drug Enforcement Administration

Charles W. Marshall, D.P.M.; Revocation of Registration

On July 28, 1999, the Deputy Assistant Administrator, Office of Diversion Control, Drug Enforcement Administration (DEA), issued an Order to Show Cause to Charles W. Marshall, D.P.M., of Chicago, Illinois, notifying him of an opportunity to show cause as to why DEA should not revoke his DEA Certificate of Registration BM2648472 pursuant to 21 U.S.C. 824(a)(3), and deny any pending applications for renewal of such registration pursuant to 21 U.S.C. 8231(f), for reason that he is not currently authorized to handle controlled substances in the State of Illinois. The order also notified Dr. Marshall that should no request for a hearing be filed within 30 days, his hearing right would be deemed waived.

DEA received a signed receipt indicating that the Order to Show Cause was received on August 23, 1999. No request for a hearing or any other reply was received by the DEA from Dr. Marshall or anyone purporting to represent him in this matter. Therefore, the Deputy Administrator, finding that (1) 30 days have passed since the receipt of the Order to Show Cause, and (2) no request for a hearing having been received, concludes that Dr. Marshall is deemed to have waived his hearing right. After considering material from the investigative file in this matter, the Deputy Administrator now enters his final order without a hearing pursuant to 21 CFR 1301.43(d) and (e) and 1301.46. This final order replaces and supersedes the final order issued on January 3, 2000.

The Deputy Administrator finds that Dr. Marshall currently possesses DEA Certificate of Registration BM2648472 issued to him in Illinois. The Deputy Administrator further finds that on August 19, 1997, the State of Illinois, Department of Professional Regulation issued an order indefinitely suspending Dr. Marshall's license to practice podiatric medicine. Additionally, Dr. Marshall's state controlled substance license expired on January 31, 1999. Therefore, the Deputy Administrator concludes that Dr. Marshall is not currently licensed to handle controlled substances in Illinois.

The DEA does not have the statutory authority under the Controlled Substances Act to issue or maintain a registration if the applicant or registrant is without state authority to handle controlled substances in the state in which he conducts his business. See 21 U.S.C. 802(21), 823(f) and 824(a)(3). This prerequisite has been consistently upheld. See Romeo J. Perez, M.D., 62 FR 16,193 (1997); Demetris A. Green, M.D., 61 FR 60,728 (1996); Dominick A. Ricci, M.D., 58 FR 51,104 (1993).

Here is clear that Dr. Marshall is not currently authorized to handle controlled substances in the State of Illinois. As a result, Dr. Marshall is not entitled to a DEA registration in that state.

Accordingly, the Deputy Administrator of the Drug Enforcement Administration, pursuant to the authority vested in him by 21 U.S.C. 823 and 824 and 28 CFR 0.100(b) and) 0.104, hereby orders that DEA Certificate of Registration BM2648472, previously issued to Charles W. Marshall, D.P.M., be, and it hereby is, revoked. The Deputy Administrator further orders that any pending applications for the renewal of such registration, be, and they hereby are, denied. This order is effective March 6, 2000, and is considered the final agency action for appellate purposes pursuant to 21 U.S.C. 877.

Dated: January 18, 2000.
Donnie R. Marshall,
Deputy Administrator.

[FR Doc. 00-2531 Filed 2-3-00; 8:45 am]

BILLING CODE 4410-09-M